DEPARTMENT OF THE INTERIOR

Bureau of Land Management

[LLMTL00100 L12200000 PM0000]

Notice of Temporary Closure of Public Lands in Fergus County, MT

AGENCY: Bureau of Land Management, Interior.

ACTION: Notice.

SUMMARY: Notice is hereby given that a temporary closure of public lands to motorized vehicles and other recreational uses is in effect on public lands administered by the Bureau of Land Management (BLM) Lewistown Field Office within the Judith Mountains, northeast of Lewistown, Montana.

DATES: The area closure will remain in effect 2 years from the date this notice is published in the Federal Register.

FOR FURTHER INFORMATION CONTACT: Geoff Beyersdorf, Field Manager, 920 NE. Main Street, Lewistown, Montana 59457; 406-538-1900. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This closure affects public lands along the Maiden Canyon Road in Fergus County, Montana. The closed section extends from the intersection of Maiden Canyon Road and Judith Peak Road to 4 miles west of Gilt Edge. This temporary closure responds to public safety needs during a project to repair severe road damage that resulted from near record runoff and flooding in the spring of 2011, combined with extreme icing conditions that exist through the winter months. The flooding created extensive damage on a 2-mile portion of the Maiden Canyon Road.

The most heavily used portion of the Maiden Canyon Road remains open for public use. However, driving and other recreational uses on the damaged portion of the Maiden Canyon Road are extremely unsafe due to a number of issues including: Steep, eroded banks; areas where the road is now in the active creek channel; falling trees where the flooding removed material around the root systems; seasonal snow or ice covering on the surface making extremely slick conditions; road shoulder damage with a vertical bank now encroaching in the driving lane; impassible road for towed or recreational vehicles; dangerous night driving conditions; and inclement weather further damaging this road section. Each of these factors increases the risk of an accident or incident and until these factors are repaired the area closure is necessary to protect the public health and safety and to enhance efficient project completion.

The BLM prepared an environmental assessment analyzing the potential environmental impacts of road repairs and a Categorical Exclusion Review for the temporary closure. The contracting and road repair work will be the responsibility of the Montana Department of Highways.

Construction activities will include surveying, staking out the work to be done, and the actual construction work. Stakes and other markings will need to be preserved for directing the work to be completed. For public safety reasons, vehicle traffic, pedestrian traffic and visitor use will be precluded during all of these activities.

The BLM will post closure signs at the main entry points to the road. The BLM will also post the closure order in the Lewistown Field Office and will keep the public informed as this project progresses via local and regional press releases and posting those releases online at: http://www.blm.gov/mt/st/en.html. Maps of the affected areas and other documents associated with this closure are available online and at the BLM Lewistown Field Office at 920 NE. Main Street, Lewistown, MT 59457.

Under the authority of Section 303(a) of the Federal land Policy and Management Act of 1976 (43 U.S.C. 1733(a)), 43 CFR 8360.0-7, and 43 CFR 8364.1, the BLM will enforce the following rule on the damaged portion of the Maiden Canyon Road in Fergus County, Montana: Visitors must not use motorized vehicles, hike or otherwise enter the public land within the closed area.

Exceptions: The following persons are exempt from this order: Federal, State and local officers and employees in the performance of their official duties; members of organized rescue or fire-fighting forces in the performance of their official duties; those who own private property within the closure and persons with written authorization from the BLM.

Penalties: Any person who violates the above restriction may be tried before a United States Magistrate and fined no more than $1000, imprisoned for no more than 12 months, or both. Such violations may also be subject to the enhanced fines provided by 18 U.S.C. 3571.

Gary L. “Stan” Benes,
Central Montana District Manager.

[FR Doc. 2013-01263 Filed 1-22-13; 8:45 am]

BILLING CODE 4310-DN-P